FEDERAL COMMUNICATIONS COMMISSION

47 CFR Part 73

[DA 06-2022; MB Docket No. 04-409; RM-11108; RM-11234]

Radio Broadcasting Services; Chester, VA; Fruitland, MD; Lakeside, VA; Port Norris, NJ; Warsaw, VA, and Willards, MD

AGENCY: Federal Communications Commission.

ACTION: Final rule.

SUMMARY: The Audio Division grants a counterproposal filed by CXR Holdings, Inc., (“CXR”) licensee of Station WDYL(FM), Chester, Virginia in response to a Notice of Proposed Rule Making issued at the request of Dana Puopolo proposing the allotment of Channel 299A at Port Norris, New Jersey. Channel 265B1 is substituted for Channel 266A at a new transmitter site, reallotted from Chester to Lakeside, Virginia as the community's first local aural service, and Station WDYL's license is modified to reflect the changes. Channel 298A is substituted for Channel 265A at Warsaw, Virginia, at a new transmitter site Station WNNT-FM's license is modified to reflect the channel substitution. Channel 299A is substituted for Channel 298B1 at a new site at Fruitland, Maryland and Station WKHI(FM)'s license is modified accordingly. Channel 265B1 is allotted at Lakeside, Virginia, at a site 9.6 kilometers (5.9 miles) east of the community at coordinates 37-36-08 NL and 77-22-09 WL. Channel 299A is be allotted at Fruitland, Maryland at a site 13.2 kilometers (8.2 miles) northeast of the community at coordinates 38-22-55 NL and 75-29-25 WL. Channel 298A can be allotted at Warsaw, Virginia, at Station WNNT-FM's transmitter site located 1.7 kilometers (1.1 miles) south of the community at coordinates 37-56-39 NL and 76-45-05 WL.

DATES: Effective November 27, 2006.

ADDRESSES: Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 04-409, adopted October 11, 2006, and released October 13, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or www.BCPIWEB.com. The Commission will send a copy of this Report and Order in a report to be sent to Congress and the Government Accountability Office pursuant to the Congressional Review Act, see 5 U.S.C. 801(a)(1)(A).

List of Subject in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Maryland is amended by removing Channel 298B1 and by adding Channel 299A at Fruitland.

3. Section 73.202(b), the Table of FM Allotments under Virginia is amended by removing Chester, Channel 266A, by adding Lakeside, Channel 265B1, and by removing Channel 265A and by adding Channel 298A at Warsaw.

Federal Communications Commission.
John A. Karousos,
Assistant Chief, Audio Division, Media Bureau.

[FR Doc. E6-18410 Filed 10-31-06; 8:45 am]

BILLING CODE 6712-01-P